DEPARTMENT OF STATE

[Public Notice No. 4638]

Secretary of State's Advisory Committee on Private International Law: Notice of Meeting

SUMMARY: There will be public meetings of a Study Group on Enforcement of Judgments of the Secretary of State's Advisory Committee on Private International Law, from 9 a.m. to 5 p.m. on Monday March 29 and from 2 p.m. to 5 p.m. on Tuesday March 30, at the new headquarters of the U.S. Patent & Trademark Office: Thomas Jefferson Building, 500 Dulany Street, Building Conference Center (Lobby Level), Alexandria, VA 22313-1450.

Full Text: The Department of State, in conjunction with the U.S. Patent and Trademark Office and other federal agencies, is convening meetings of the Secretary of State's Advisory Committee on Private International Law, Study Group on Enforcement of Judgments, in order to seek consultations on the proposed draft Hague Convention on Exclusive Choice of Court Agreements. The meetings will bring delegates from many member states of the Hague Conference on Private International Law together with experts from industry, trade associations, bar associations, non-governmental associations, and other interested parties to consider in more detail those aspects of the draft convention that bear on intellectual property rights and related litigation. The current draft of the proposed convention may be found on the Web site of the Hague Conference (http://www.hcch.net) or directly at ftp://ftp.hcch.net/doc/workdoc49e.pdf.

The meetings will be held from 9 a.m. to 5 p.m. on Monday March 29 and from 2 p.m. to 5 p.m. on Tuesday March 30, at the new headquarters of the U.S. Patent & Trademark Office: Thomas Jefferson Building, 500 Dulany Street, Building Conference Center (Lobby Level), Alexandria, VA 22313-1450. The meetings are open to the public up to the capacity of the meeting room. Interested persons are invited to attend and to express their views. Persons who wish to have their views considered are encouraged, but not required, to submit written comments in advance of the meeting. Written comments should be submitted by e-mail to Jeffrey Kovar at kovarjd@state.gov. All comments will be made available to the public by request to Mr. Kovar via e-mail or by phone (202-776-8420).

Persons wishing to attend must notify Ms. Cherise Reid by e-mail (reidcd@state.gov), fax (202-776-8482), or by telephone (202-776-8420).

Dated: March 3, 2004.
Jeffrey D. Kovar,
Assistant Legal Adviser for Private International Law, Department of State.

[FR Doc. 04-5501 Filed 3-10-04; 8:45 am]

BILLING CODE 4710-07-P